DEPARTMENT OF HOMELAND SECURITY

U.S. Customs and Border Protection

Approval of American Cargo Assurance (Sulphur, LA) as a Commercial Gauger

AGENCY: U.S. Customs and Border Protection, Department of Homeland Security.

ACTION: Notice of approval of American Cargo Assurance (Sulphur, LA), as a commercial gauger.

SUMMARY: Notice is hereby given, pursuant to CBP regulations, that American Cargo Assurance (Sulphur, LA), has been approved to gauge petroleum and certain petroleum products for customs purposes for the next three years as of July 11, 2023.

DATES: American Cargo Assurance (Sulphur, LA) was approved as a commercial gauger as of July 11, 2023. The next triennial inspection date will be scheduled for July 2026.

FOR FURTHER INFORMATION CONTACT: Mrs. Allison Blair, Laboratories and Scientific Services, U.S. Customs and Border Protection, 4150 Interwood South Parkway, Houston, TX 77032, tel. 281-560-2900.

SUPPLEMENTARY INFORMATION: Notice is hereby given pursuant to 19 CFR 151.13, that American Cargo Assurance, 3417-A Maplewood Dr., Sulphur, Louisiana, 70663, has been approved to gauge petroleum and certain petroleum products for customs purposes, in accordance with the provisions of 19 CFR 151.13.

American Cargo Assurance (Sulphur, LA) is approved for the following gauging procedures for petroleum and certain petroleum products from the American Petroleum Institute (API):

API chapters | Title
3 | Tank Gauging.
7 | Temperature Determination.
8 | Sampling.
11 | Physical Properties Data.
12 | Calculations.
17 | Marine Measurement.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (281) 560-2900. The inquiry may also be sent to CBPGaugersLabs@cbp.dhs.gov. Please reference the website listed below for a complete listing of CBP approved gaugers and accredited laboratories. https://www.cbp.gov/about/labs-scientific/commercial-gaugers-and-laboratories.

Dated: March 24, 2025.
Lina Acosta,
Acting Laboratory Director, Houston, Laboratories and Scientific Services Directorate.

[FR Doc. 2025-07863 Filed 5-5-25; 8:45 am]

BILLING CODE 9111-14-P